Memorandum of September 4, 2020

Delegation of Certain Functions and Authorities Under the Global Fragility Act of 2019

Memorandum for the Secretary of State[,] the Secretary of the Treasury[,] the Secretary of Defense[,] the Secretary of Energy[,] the Secretary of Commerce[,] the Director of the Office of Management and Budget[,] the Director of National Intelligence[, and] the Administrator of the United States Agency for International Development

By the authority vested in me as President by the Constitution and the laws of the United States of America, including section 301 of title 3, United States Code, I hereby delegate to the Secretary of State, in consultation with the Secretary of the Treasury, the Secretary of Defense, the Secretary of Energy, the Secretary of Commerce, the Director of National Intelligence, the Administrator of the United States Agency for International Development, and the Director of the Office of Management and Budget, the functions and authorities vested in the President by sections 504(a) and (c) of the Global Fragility Act of 2019 (Public Law 116-94).

The delegation in this memorandum shall apply to any provisions of any future public laws that are the same or substantially the same as those provisions referenced in this memorandum.

The Secretary of State is authorized and directed to publish this memorandum in the Federal Register.

THE WHITE HOUSE,

Washington, September 4, 2020

[FR Doc. 2020-21389

Filed 9-24-20; 8:45 am]

Billing code 4710-10-P